DEPARTMENT OF ENERGY

Federal Energy Regulatory Commission

Combined Notice of Filings

Take notice that the Commission has received the following Natural Gas Pipeline Rate and Refund Report filings:

Docket Number: PR21-51-000.

Applicants: Columbia Gas of Ohio, Inc.

Description: Tariff filing per 284.123(b),(e)/: COH SOC Rates effective May 28 2021 to be effective 5/28/2021.

Filed Date: 6/25/2021.

Accession Number: 202106255074.

Comments/Protests Due: 5 p.m. ET 7/16/2021.

Docket Number: PR21-46-001.

Applicants: DCP Guadalupe Pipeline, LLC.

Description: Tariff filing per 284.123(b), (e) + (g): Guadalupe SOC 7.1.0 to be effective 5/1/2021.

Filed Date: 6/25/2021.

Accession Number: 202106255043.

Comments Due: 5 p.m. ET 7/16/2021.

284.123(g) Protests Due: 5 p.m. ET 7/16/2021.

Docket Numbers: RP21-909-000.

Applicants: Bobcat Gas Storage.

Description: § 4(d) Rate Filing: Updates to Tariff Contact Person to be effective 7/24/2021.

Filed Date: 6/24/21.

Accession Number: 20210624-5025.

Comments Due: 5 p.m. ET 7/6/21.

Docket Numbers: RP21-910-000.

Applicants: Natural Gas Pipeline Company of America.

Description: § 4(d) Rate Filing: Negotiated Rate Agreement Filing-Presidion WAB LLC to be effective 7/1/2021.

Filed Date: 6/25/21.

Accession Number: 20210625-5038.

Comments Due: 5 p.m. ET 7/7/21.

Docket Numbers: RP21-911-000.

Applicants: MMGJ Arkansas Upstream, LLC, Riverbend Oil and Gas VIII, LLC.

Description: Joint Petition for Limited Waiver of Capacity Release Regulations, et al. of MMGJ Arkansas Upstream, LLC, et al. under RP21-911.

Filed Date: 6/25/21.

Accession Number: 20210625-5151.

Comments Due: 5 p.m. ET 7/2/21.

Docket Numbers: RP21-912-000.

Applicants: Paiute Pipeline Company.

Description: § 4(d) Rate Filing: Cover Page Address and Fax Change to be effective 6/28/2021.

Filed Date: 6/25/21.

Accession Number: 20210625-5187.

Comments Due: 5 p.m. ET 7/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2021.
Debbie-Anne A. Reese,
Deputy Secretary.

[FR Doc. 2021-14242 Filed 7-1-21; 8:45 am]

BILLING CODE 6717-01-P